DEPARTMENT OF LABOR

Employment and Training Administration

[TA-W-53,098]

Alcoa Composition Foils, Pevely, MO; Notice of Termination of Investigation

Pursuant to section 221 of the Trade Act of 1974, as amended, an investigation was initiated on October 1, 2003 in response to a worker petition filed on behalf of workers at Alcoa Composition Foils, Pevely, Missouri. The facility shut down March 31, 2003.

The Department issued a negative determination applicable to the petitioning group of workers on April 28, 2003 (TA-W-50,823). That determination was upheld upon reconsideration in a decision rendered July 25, 2003. No new information or change in circumstances is evident which would result in a reversal of the Department's previous determinations. Consequently, further investigation would serve no purpose, and the investigation has been terminated.

Signed at Washington, DC, this 12th day of November, 2003.
Linda G. Poole,
Certifying Officer, Division of Trade Adjustment Assistance.

[FR Doc. 03-29948 Filed 12-1-03; 8:45 am]

BILLING CODE 4510-30-P